DEPARTMENT OF COMMERCE

National Oceanic and Atmospheric Administration

[I.D. 051200D]

Pacific Fishery Management Council; Public Meeting

AGENCY: National Marine Fisheries Service (NMFS), National Oceanic and Atmospheric Administration (NOAA), Commerce.

ACTION: Notice of public meeting.

SUMMARY: The Pacific Fishery Management Council's (Council) Groundfish Stock Assessment Review (STAR) Panel will hold a work session which is open to the public.

DATES: The STAR Panel for Pacific ocean perch and yellowtail rockfish will meet beginning at 1 p.m., June 12, 2000 and continue through June 16, 2000. Except for Monday, June 12, the STAR Panel will meet each day, from 8 a.m. to 5 p.m.

ADDRESSES: The STAR Panel for Pacific ocean perch and yellowtail rockfish will be held in Building 4, Room 2079 of the NMFS Alaska Fisheries Science Center, 7600 Sand Point Way NE., Seattle, WA 98115.

Council address: Pacific Fishery Management Council, 2130 SW Fifth Avenue, Suite 224, Portland, OR 97201.

FOR FURTHER INFORMATION CONTACT: Dan Waldeck, Fishery Management Analyst; telephone: (503) 326-6352.

SUPPLEMENTARY INFORMATION: The purpose of the meeting is to review draft stock assessment documents for Pacific ocean perch and yellowtail rockfish and any other pertinent information, work with stock assessment teams to make necessary revisions, and produce STAR Panel reports for use by the Council family and other interested persons.

Although non-emergency issues not contained in the STAR Panel agenda may come before the STAR Panel for discussion, those issues may not be the subject of formal panel action during this meeting. STAR Panel action will be restricted to those issues specifically listed in this notice, and any issues arising after publication of this notice that require emergency action under section 305(c) of the Magnuson-Stevens Fishery Conservation and Management Act, provided the public has been notified of the panel's intent to take final action to address the emergency.

Special Accommodations

The meeting is physically accessible to people with disabilities. Requests for sign language interpretation or other auxiliary aids should be directed to Mr. John Rhoton at (503) 326-6352 at least 5 days prior to the meeting date.

Dated: May 17, 2000.
Richard W. Surdi,
Acting Director, Office of Sustainable Fisheries, National Marine Fisheries Service.

[FR Doc. 00-12967 Filed 5-22-00; 8:45 am]

BILLING CODE 3510-22-F